POSTAL SERVICE

Privacy Act System of Records; Correction

AGENCY: Postal Service.

ACTION: Notice of a corrected system of records.

SUMMARY: The United States Postal Service® (Postal Service) is providing a correction to a General Privacy Act System of Records (SOR) that was previously published on August 18, 2021. The previous modifications to the SOR were made to support improved communication efforts within USPS Human Resources employee applications or systems and to reflect current system manager titles. This corrected version of the SOR is being provided to provide notice and promote transparency.

DATES: These corrections are effective immediately without further notice.

ADDRESSES: Privacy and Records Management Office, United States Postal Service Headquarters, USPSPrivacyFedRegNotice@usps.gov.

FOR FURTHER INFORMATION CONTACT: Janine Castorina, Chief Privacy and Records Management Officer, Privacy and Records Management Office, (202) 268-2000 or via email at USPSPrivacyFedRegNotice@usps.gov.

SUPPLEMENTARY INFORMATION: This notice is in accordance with the Privacy Act requirement that agencies publish their systems of records in the Federal Register when there is a correction, revision, change, or addition, or when the agency establishes a new system of records. The Postal Service is publishing a corrected version of USPS SOR 100.00, General Personnel Records.

I. Background

The Postal Service previously published an incorrect version of USPS SOR 100.000, that erroneously duplicated the content of USPS SOR 100.100, Recruiting, Examining, and Placement Records, that appeared in the same Federal Register Notice (Document Citation—86 FR 46281). As information, SOR 100.000 was formerly published in its entirety on February 25, 2019 (Document Citation—84 FR 6022).

II. Rationale for Changes to USPS Privacy Act Systems of Records

The Postal Service is publishing a corrected version of USPS SOR 100.000, General Personnel Records. This notice is being provided to correct the previous version published on August 18, 2021. As indicated in the previous Federal Register Notice, Human Resources required the need to capture and store an employee's personal email and phone number for both pre-hire and after the effective date of the appointment in order to:

• Communicate relevant Human Resource information to employees.

• Communicate with employees about human resource related topics, employment, and gather feedback through surveys.

• Communicate with employees regarding training assignments and requirements both prior to and after effective date of employment or placement.

Summary of changes added to facilitate communication between the Postal Service and individual employees:

• Added purposes 7 through 9

• Added additional items to Categories of Individuals Covered by the System

• Added additional items to Categories of Records in the System, #1

III. Description of the Modified Systems of Records

A report of the correction to SOR 100.000 has been sent to Congress and to the Office of Management and Budget. The Postal Service does not expect that the corrected version of the system of records will have any adverse effect on individual privacy rights. Accordingly, for the reasons stated above, the Postal Service is providing the corrected version of USPS SOR 100.000, General Personnel Records in its entirety as follows:

SYSTEM NAME AND NUMBER:

USPS 100.000 General Personnel Records.

SECURITY CLASSIFICATION:

None.

SYSTEM LOCATION:

All USPS facilities and personnel offices; Integrated Business Solutions Services Centers; National Personnel Records Center; Human Resources Information Systems; Human Resources Shared Services Center; Headquarters; Computer Operations Service Centers; and contractor sites.

SYSTEM MANAGER(S) AND ADDRESS:

Deputy Postmaster General and Chief Human Resources Officer, United States Postal Service, 475 L'Enfant Plaza SW, Washington, DC 20260.

Vice President, Human Resources, United States Postal Service, 475 L'Enfant Plaza SW, Washington, DC 20260.

Director of Human Resources, USPS OIG, 1735 N Lynn Street, Suite 103, Arlington, VA 22209.

AUTHORITY FOR MAINTENANCE OF THE SYSTEM:

39 U.S.C. 401, 410, 1001, 1005, and 1206.

PURPOSE(S) OF THE SYSTEM:

1. To perform routine personnel functions.

2. To maintain a source of readily available information on employees for administrative purposes.

3. To administer the grievance and appeal procedure for non-bargaining unit employees.

4. To match a vacant position to the most qualified candidate in bids for preferred assignment.

5. To provide public relations information on USPS management personnel.

6. To provide federal benefit information to retired employees.

7. To facilitate communication between the Postal Service and individual employees, including current and former employees, retirees and new hires.

8. To share relevant information and topics about the Postal Service with individual employees, including current and former employees, retirees and new hires.

9. To gather voluntary feedback from individual employees, including current and former employees, retirees and new hires.

CATEGORIES OF INDIVIDUALS COVERED BY THE SYSTEM:

Current and former USPS employees, retirees, new hires, their family members, and former spouses who apply and qualify for federal employee benefits under public law.

CATEGORIES OF RECORDS IN THE SYSTEM:

1. Current and former employee's information, including retirees and new hires, and family member information: Name(s), Social Security Number(s), Employee Identification Number, date(s) of birth, place(s) of birth, marital status, postal assignment information, work contact information, home address(es) and phone number(s), SMS text message number, personal email address, finance number(s), duty location, and pay location.

2. Official Personnel Folder (OPF) or eOPF (electronic version): Records related to appointment support, prior federal civilian employment, postal employment, personnel actions, anniversary dates, retirement, benefits, and compensation.

3. Automated employee information: Records generated, approved, and stored by electronic means such as Notification of Personnel Actions, health benefit elections, tax withholding changes, and address changes.

4. Reference copies of all discipline or adverse actions: Letters of warning; notices of removal, suspension and/or reduction in grade or pay; letters of decisions; and documents relating to these actions. These are used only to refute inaccurate statements by witnesses before a judicial or administrative body. They may not be maintained in the employee's OPF or eOPF but must be maintained in a separate file by Labor Relations.

5. Nonbargaining unit employee discipline, grievance, and appeals records.

6. Job bidding records: Records related to the employee's bid for a preferred assignment.

7. Biographical summaries: Records and photographs used for public relations purposes.

8. Level 2 supervisors' notes: Records of discussions, letters of warning, and any other relevant official records being maintained at the supervisor's discretion for the purpose of enabling effective management of personnel. (A level 2 supervisor directly supervises bargaining unit employees.)

9. Email Addresses: personal email address(es) for retired employees are retained in a separate database and file from other current and former employee information.

RECORD SOURCE CATEGORIES:

Employees; employees' supervisors; USPS customers; law enforcement agencies; individuals who are personal references; former employers, including other federal agencies; and other systems of records.

ROUTINE USES OF RECORDS MAINTAINED IN THE SYSTEM, INCLUDING CATEGORIES OF USERS AND THE PURPOSES OF SUCH USES:

Standard routine uses 1. through 9. apply. In addition:

a. Job bidding records may be disclosed on official bulletin boards in Postal Service facilities and to supervisory and other managerial organizations recognized by USPS.

b. Records pertaining to financial institutions and to nonfederal insurance carriers and benefits providers elected by an employee may be disclosed for the purposes of salary payment or allotments, eligibility determination, claims, and payment of benefits.

c. Records may be disclosed to the National Labor Relations Board (NLRB) in response to its request for investigative purposes, to the extent that the requested information is relevant and necessary.

d. Disclosure of the employee name and past or present grade, duty station, dates of employment, job title, and salary information may be made to a credit bureau or other commercial firm from which a current or former postal employee is seeking credit.

e. Disclosure of a current or former postal employee's name and past or present grade, duty station, dates of employment, job title, salary information, date and reason for separation may be made to a prospective employer upon request. With respect to former employees, the reason for separation must be limited to one of the following terms: Retired, resigned, or separated.

POLICIES AND PRACTICES FOR STORAGE OF RECORDS:

Automated database, computer storage media, digital files, and paper files. Duplicates of records in the OPF or eOPF and automated employee data may be maintained for localized employee administration or supervision. Records may be filed at offices other than where the OPF or eOPF is located or may be duplicated at a site closer to where the employee works.

POLICIES AND PRACTICES FOR RETRIEVAL OF RECORDS:

By name, Social Security Number, Employee Identification Number, or duty or pay location.

POLICIES AND PRACTICES FOR RETENTION AND DISPOSAL OF RECORDS:

1. Permanent OPF or eOPF records are permanently retained. Temporary OPF or eOPF records are generally retained 2 years and are purged upon the employee's separation from USPS.

2. Except as otherwise provided by a collective bargaining agreement, original or copies of discipline or adverse actions are maintained up to 2 years; or, if an additional or more recent disciplinary action has been taken, for a longer period. After 2 years, or lesser time specified in the decision, the employee may request the disciplinary record be purged from the OPF or eOPF provided no subsequent discipline was issued. Records that support a PS Form 50, Notification of Personnel Action, e.g., the separation of an employee for cause or the resignation of an employee pending charges, are considered permanent records and may not be purged at the request of an employee.

3. Reference copies of discipline or adverse actions. These records are kept for historical purposes and are not to be used for decisions about the employee. The retention of these records may not exceed 10 years beyond the employee's separation date. The records are maintained longer if the employee is rehired during the 10-year period. They may not be maintained in the employee's OPF or eOPF but must be maintained in a separate file by Labor Relations.

4. Grievance and appeal records of nonbargaining unit employees are retained 7 years.

5. Job bidding records are retained 2 years.

6. Biographical summaries are retained for the duration of employment.

7. Records to provide federal benefit information to retired employees are retained for 10 years.

Records may be purged at the request of the retired employee. Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Non-bargaining unit employee discipline, grievance, and appeals records maintained outside the OPF (hard or soft copy) are kept in locked filing cabinets or secured record storage rooms; and related automated records are protected with password security.

Computers are protected by mechanical locks, card key systems, or other physical access control methods. The use of computer systems is regulated with installed security software, computer logon identifications, and operating system controls including access controls, terminal and transaction logging, and file management software.

RECORD ACCESS PROCEDURES:

Requests for access must be made in accordance with the Notification Procedures below and USPS Privacy Act regulations regarding access to records and verification of identity under 39 CFR 266.5.

CONTESTING RECORD PROCEDURES:

See Notification Procedures and Record Access Procedures.

NOTIFICATION PROCEDURES:

Individuals wanting to know if information about them is maintained in this system must address inquiries to the facility head where currently or last employed. Headquarters employees must submit inquiries to Corporate Personnel Management, 475 L'Enfant Plaza SW, Washington, DC 20260. Inquiries must include full name, Social Security Number or Employee Identification Number, name and address of facility where last employed, and the dates of USPS employment.

EXEMPTIONS PROMULGATED FOR THE SYSTEM:

Records in this system that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

HISTORY:

August 18, 2021, 86 FR 46281; February 25, 2019, 84 FR 6022; January 26, 2018, 83 FR 3777; July 19, 2013, 78 FR 43247; February 22, 2013, 78 FR 12368; June 17, 2011, 76 FR 35483; April 29, 2005, 70 FR 22516.

* * * * *

Sarah Sullivan,
Attorney, Ethics & Legal Compliance.

[FR Doc. 2024-15623 Filed 7-15-24; 8:45 am]

BILLING CODE 7710-12-P